DEPARTMENT OF DEFENSE

Defense Acquisition Regulations System

[Docket DARS-2020-0008]

Defense Federal Acquisition Regulation Supplement: Prohibition on Certain Telecommunications and Video Surveillance Services or Equipment

AGENCY: Defense Acquisition Regulations System, Department of Defense (DoD).

ACTION: Announcement of public meeting.

SUMMARY: DoD is hosting a public meeting to facilitate implementation planning by obtaining the views of DoD industry partners, associations, and interested parties regarding implementation of the prohibition in section 889(a)(1)(B) of the National Defense Authorization Act for Fiscal Year 2019 on contracting with an entity that uses certain telecommunications and video surveillance services and equipment.

DATES:

Public Meeting Date: The public meeting will be held on March 2, 2020, from 1:00 to 5:00 Eastern time. The public meeting will end at the stated time, or when the discussion ends, whichever comes first.

Registration Date: Registration to attend the public meeting must be received no later than close of business on February 25, 2020. Information on how to register for the public meeting may be found in the SUPPLEMENTARY INFORMATION section of this notice.

ADDRESSES: The public meeting will be held in the Pentagon Library and Conference Center (PLCC), Conference Room B6, 1155 Defense Pentagon, Washington, DC 20301. Conference Room B6 is located on the lower level of the PLCC.

FOR FURTHER INFORMATION CONTACT: Ms. Heather Kitchens, telephone 571-372-6104.

SUPPLEMENTARY INFORMATION:

I. Background

A. Section 889(a)(1)(B)

DoD is hosting a public meeting to facilitate the Department's planning for the pending implementation of section 889(a)(1)(B) of the National Defense Authorization Act (NDAA) for Fiscal Year (FY) 2019 (Pub. L. 115-232). The Department is focused on achieving an efficient implementation of the prohibition in section 889(a)(1)(B). To achieve this goal, DoD is seeking the views of DoD industry partners and associations regarding how industry will implement this prohibition, including what, if any, impacts there will be to DoD business.

Section 889(a)(1)(B) prohibits Executive agencies, including DoD, from entering into a contract (or extending or renewing a contract) with an entity that uses any equipment, system, or service that uses covered telecommunications equipment or services as a substantial or essential component of any system, or as critical technology as part of any system. Covered telecommunications equipment means any of the following:

• Telecommunications equipment produced by Huawei Technologies Company or ZTE Corporation (or any subsidiary or affiliate of such entities).

• For the purpose of public safety, security of Government facilities, physical security surveillance of critical infrastructure, and other national security purposes, video surveillance and telecommunications equipment produced by Hytera Communications Corporation, Hangzhou Hikvision Digital Technology Company, or Dahua Technology Company (or any subsidiary or affiliate of such entities).

• Telecommunications or video surveillance services provided by such entities or using such equipment.

• Telecommunications or video surveillance equipment or services produced or provided by an entity that the Secretary of Defense, in consultation with the Director of the National Intelligence or the Director of the Federal Bureau of Investigation, reasonably believes to be an entity owned or controlled by, or otherwise connected to, the government of the People's Republic of China.

On July 19, 2019, DoD, the General Services Administration, and the National Space and Aeronautics Administration hosted a public meeting to obtain views of experts and interested parties regarding implementation in the Federal Acquisition Regulation (FAR) of section 889 of the NDAA for FY 2019, with specific focus on the implementation of paragraph (a)(1)(B). Unlike the July public meeting, the intent of this public meeting is to facilitate DoD's implementation by focusing on DoD industry partner plans for implementation. DoD is seeking information on the following:

• What key barriers do you see to industry implementation of this prohibition, and how might they be overcome?

• How long will it take companies to cease use of covered equipment or services?

• What impact will implementation of this requirement have on your supply chains and your ability to contract with DoD?

• What distinct impacts will implementation of this requirement have on small business?

B. Section 889(a)(1)(A)

This public meeting is not related to the implementation of the prohibition in section 889(a)(1)(A) of the NDAA for FY 2019. Section 889(a)(1)(A) prohibits executive agencies, including DoD, from procuring or obtaining, or extending or renewing a contract to procure or obtain, any equipment, system, or service that uses covered telecommunications equipment or services as a substantial or essential component of any system, or as critical technology as part of any system.

DoD participated with the FAR Council in implementing in the FAR the prohibition in section 889(a)(1)(A) via the interim rule published in the Federal Register at 84 FR 40216 on August 13, 2019 (reference FAR Case 2018-017).

DoD issued DoD procedures for implementing the FAR rule that implemented section 889(a)(1)(A) (see https://www.acq.osd.mil/dpap/policy/policyvault/USA001866-19-DPC.pdf).

The FAR Council published a second interim rule in the Federal Register at 84 FR 68314 on December 13, 2019 (reference FAR Case 2018-017), to alleviate some of the reporting burden associated with the first interim rule.

II. Public Meeting

Registration: To ensure adequate room accommodations and to facilitate security screening and entry to the PLCC, individuals wishing to attend the public meeting must register by close of business on the date listed in the DATES section of this notice, by sending the following information via email to osd.dfars@mail.mil:

(1) Full name.

(2) Valid email address.

(3) Valid telephone number.

(4) Company or organization name.

(5) Whether the individual is a U.S. citizen.

(6) The date(s) of the public meeting(s) the individual wishes to attend.

(7) Whether the individual intends to make a presentation, and, if so, the individual's title.

Building Entry: Upon receipt of an email requesting registration, the Defense Acquisition Regulations System will provide notification to the Pentagon Force Protection Agency (PFPA) that the individual is requesting approval for entry to the PLCC on the date(s) provided. PFPA will send additional instructions to the email address provided in the request for registration. The registrant must follow the instructions in the PFPA email in order to be approved for entry to the PLCC.

One valid government-issued photo identification card (i.e., driver's license or passport) will be required in order to enter the building.

Attendees are encouraged to arrive at least 30 minutes prior to the start of the meeting to accommodate security procedures.

Public parking is not available at the PLCC.

Presentations: If you wish to make a presentation, please submit an electronic copy of your presentation to osd.dfars@mail.mil no later than the registration date listed in the DATES section of this notice. Each presentation should be in PowerPoint to facilitate projection during the public meeting and should include the presenter's name, organization affiliation, telephone number, and email address on the cover page. Please submit presentations only and cite “Public Meeting, Section 889(a)(1)(B)” in all correspondence related to the public meeting. There will be no transcription at the meeting. The submitted presentations will be the only record of the public meeting and will be posted to the following website at the conclusion of the public meeting: https://www.acq.osd.mil/dpap/dars/Section889.html.

Special accommodations: The public meeting is physically accessible to persons with disabilities. Requests for reasonable accommodations, sign language interpretation, or other auxiliary aids should be directed to Valencia Johnson, telephone 571-372-6099, by no later than the registration date listed in the DATES section of this notice.

The TTY number for further information is: 1-800-877-8339. When the operator answers the call, let him or her know the agency is the Department of Defense and the point of contact is Valencia Johnson at 571-372-6099.

Jennifer Lee Hawes,
Regulatory Control Officer, Defense Acquisition Regulations System.

[FR Doc. 2020-02727 Filed 2-10-20; 8:45 am]

BILLING CODE 5001-06-P